DEPARTMENT OF THE INTERIOR

Minerals Management Service

Royalty Policy Committee of the Minerals Management Advisory Board; Notice and Agenda for Meeting

AGENCY: Minerals Management Service (MMS), Interior.

ACTION: Notice of meeting.

SUMMARY: The Royalty Policy Committee of the Minerals Management Advisory Board will meet at the New Orleans Hyatt Regency Hotel, New Orleans, Louisiana.

DATES: Wednesday, March 19, 2003, from 1 p.m. to 5 p.m. and Thursday, March 20, 2003, from 8:30 a.m. to 11:30 a.m.

ADDRESSES: The Hyatt Regency New Orleans, 500 Poydras Plaza, New Orleans, Louisiana 70140, telephone (504) 561-1234, fax (504) 523-0488.

FOR FURTHER INFORMATION CONTACT: Mr. Gary Fields, Royalty Policy Committee Coordinator, Minerals Revenue Management, Minerals Management Service, P.O. Box 25165, MS 300B3, Denver, CO 80225-0165, telephone (303) 231-3102, fax (303) 231-3781, e-mail gary.fields@mms.gov.

SUPPLEMENTARY INFORMATION: The Secretary of the Interior established a Royalty Policy Committee of the Minerals Management Advisory Board to provide advice on the Department's management of Federal and Indian minerals leases, revenues, and other minerals-related policies. Committee membership includes representatives from States, Indian tribes and allottee organizations, minerals industry associations, the general public, and Federal departments.

At this 16th meeting, the committee will elect a Parliamentarian, receive a subcommittee report on coal and review recommendations from the sodium/potassium subcommittee. The MMS will present reports on financial management, compliance, the Strategic Petroleum Reserve and royalty-in-kind initiatives. The MMS will also discuss the current appeals process, a Federal Energy Regulatory Commission issue and provide a legislative update.

The location and dates of future meetings will be published in the Federal Register. The meetings are open to the public without advance registration on a space available basis. The public may make statements during the meetings, to the extent time permits, and file written statements with the committee for its consideration. Written statements should be submitted to Mr. Fields at the mailing address listed in the FOR FURTHER INFORMATION CONTACT section. Transcripts of committee meetings will be available 2 weeks after each meeting for public inspection and copying at MMS's Minerals Revenue Management, Building 85, Denver Federal Center, Denver, Colorado.

Authority: Federal Advisory Committee Act, Public Law 92-463, 5 U.S.C. Appendix 1, and Office of Management and Budget Circular No. A-63, revised.

Dated: January 23, 2003.
Lucy Querques Denett,
Associate Director for Minerals Revenue Management.

[FR Doc. 03-1886 Filed 1-27-03; 8:45 am]

BILLING CODE 4310-MR-P